DEPARTMENT OF DEFENSE

Department of the Air Force

Update to Notice of Intent to the Joint Environmental Impact Statement and Environmental Impact Report for Development of the Oro Verde Solar Project

AGENCY: United States Air Force, DOD.

ACTION: Updated Notice of Intent.

SUMMARY: The United States Air Force (USAF) is issuing this notice to update the public on changes to the joint Environmental Impact Statement (EIS) and Environmental Impact Report (EIR) for development of the Oro Verde Solar Project (OVSP). The Notice of Intent (NOI) to prepare a joint project-level EIS/EIR for the Oro Verde Solar Project was originally published in the Federal Register on May 29, 2013 (FR Doc. 2013-12751). Public and agency meetings were held to discuss the project on June 11, 2013, at Club Muroc on Edwards AFB; June 12, 2013, at the Mojave Veterans Hall at 15580 O Street in Mojave, California; and June 13, 2013, at the Hummel Community Hall at 2500 20th Street West in Rosamond, California. Since the publication of the NOI, the Air Force is no longer partnering with the originally selected project developer for the Oro Verde Solar Project. However, the Air Force is continuing with completion of an EIS/EIR at a broader programmatic level to support future project implementation. The Air Force has retitled this project the Edwards AFB Solar EUL Project Programmatic EIS/EIR. The programmatic analysis will provide future potential developers and the public with an early understanding of environmental impacts and benefits of the proposed action, and will assist in framing the scope of any subsequent site-specific Air Force actions.

ADDRESSES: In order to update the public on changes to the programmatic EIS/EIR proposal and effectively define the full range of issues to be evaluated, the Air Force and Kern County are soliciting additional comments from interested state and federal agencies and interested members of the public. The Air Force and Kern County request comments be sent within 30 days following the publication of this Notice of Intent in the Federal Register. Comments and input from the public on the proposal for the Edwards AFB solar EUL project can be emailed or sent to Edwards AFB public affairs using the following contact information. Gary Hatch, Environmental Public Affairs, Bldg. 1405, Room 400, Edwards Air Force Base, CA 93524; email: 412tw.pae@edwards.af.mil, Phone: 661-277-8707, Fax: (661) 277-2732.

SUPPLEMENTARY INFORMATION: The programmatic EIS/EIR will provide the information needed by the Air Force and County to make a determination on whether or not to implement a solar photovoltaic (PV) project on up to a maximum of 4,000 acres of undeveloped, non-excess real property in the northwest corner of Edwards AFB. The analysis will also evaluate the environmental impacts associated with construction of a generation transmission tie (gen-tie) line that is anticipated to be 10-14 miles in length. Final routing would depend on the ability of a future developer to secure access easements from public and private entities. The project area is located approximately 6 miles northeast of the community of Rosamond and 6 miles south of Mojave in southeastern Kern County, California. The proposal and alternatives being evaluated in the Edwards AFB Solar EUL Project Programmatic EIS/EIR have remained consistent with those presented in the 2013 Notice of Intent and Scoping sessions, though the Air Force is now considering a 1,500 acre development instead of a 2,000 acre development for its reduced-scale project alternative (Alternative B). The area proposed for solar PV development is the same area presented in 2013.

Alternatives evaluated in the Edwards AFB Solar EUL Project Programmatic EIS/EIR include the No Action Alternative and two additional alternatives. Alternative A includes development of a solar PV project on up to 4,000 acres of Edwards AFB property located in the northwestern corner of the base and would include construction of a Gen-tie line of approximately 10-14 miles in total length. Alternative B represents a reduced-scale alternative for the construction and operation of a solar PV facility on up to 1,500 acres of Edwards AFB non-excess property within the same project footprint as Alternative A. The Air Force anticipates issuing a Request for Qualifications (RFQ), requesting proposals from public and/or private entities to construct, operate, and maintain a utility-scale solar PV energy-generating facility. The future selected developer/s would complete additional site-specific environmental impact analysis tiering from the Edwards AFB Solar EUL Project Programmatic EIS/EIR to address any facility design issues requiring additional analysis.

Public scoping for the Edwards AFB Solar EUL project was conducted for 30 days following the May 29, 2013 publication of the Notice of Intent for the joint project-level EIS/EIR for the Oro Verde Solar Project. Public scoping meetings were held in June, 2013 in conjunction with the scoping period for this project.

The USAF has identified potential impacts to the following resources: Aesthetics, Air Quality and Greenhouse Gas Emissions, Biological Resources, Cultural and Paleontological Resources, Water Resources, Land Use, Public Services, Soils, Transportation and the Acoustic Environment. Additionally, Pursuant to Executive Order 11988, as amended by Executive Order 13690, the Air Force is providing early notification that the project area is located within a floodplain that would be impacted by the proposed solar development.

Henry Williams,
Acting Air Force Federal Register Liaison Officer.

[FR Doc. 2016-14125 Filed 6-14-16; 8:45 am]

BILLING CODE 5001-10-P